DEPARTMENT OF TRANSPORTATION

Maritime Administration

[USCG-2005-22219]

Northeast Gateway Liquefied Natural Gas Deepwater Port License Application; Final Environmental Impact Statement Supplementary Material

AGENCY: Maritime Administration, DOT.

ACTION: Notice of availability; Request for Comments.

SUMMARY: The Coast Guard and the Maritime Administration (MARAD) announce the availability of material supplementing the Final Environmental Impact Statement (FEIS) for the Northeast Gateway Liquefied Natural Gas Deepwater Port License Application. The supplementary material corrects omissions in the FEIS.

DATES: To allow sufficient time for public review and comment on this supplemental material we are extending the public comment period until December 26, 2006. All other scheduled dates remain unchanged. The Federal and State Agency and Governor comment period also end December 26, 2006 and the MARAD Record of Decision is due by February 7, 2007.

FOR FURTHER INFORMATION CONTACT: If you have questions about the supplementary material, you may contact Roddy Bachman, U.S. Coast Guard, at 202-372-1451 or Roddy.C.Bachman.uscg.mil. If you have questions on viewing or submitting material to the docket, call Ms. Renee V. Wright, Program Manager, Docket Operations, telephone 202-493-0402.

SUPPLEMENTARY INFORMATION: On October 26, 2006, the Coast Guard and MARAD notice of availability for the Northeast Gateway Liquefied Natural Gas Deepwater Port License FEIS appeared in the Federal Register (71 FR 62657). Subsequently, we discovered some omissions in the FEIS. The FEIS did not include some data that became available late in the process. These corrections appear in an errata sheet which, along with the FEIS itself, are now available in the docket on the Internet at http://dms.dot.gov under docket number USCG-2005-22219. You may also view these materials in person at the Docket Management Facility in room PL-401 on the Plaza level of the Nassif Building, 400 Seventh Street, SW., Washington, DC, between 9 a.m. and 5 p.m., Monday through Friday, except Federal holidays.

The corrections are to incorporate additional Whale Center of New England data into the FEIS. The following corrections to the FEIS apply:

Page 2-36, Marine Mammal Occurrence

Delete: “The analysis compared distribution of marine mammal sightings within the location alternatives using sighting data provided by SBNMS for the period 1979 to 2002”.

Replace with: “Data on the distribution of marine mammals was obtained from the following two primary sources: Whale Center of New England (Weinrich and Sardi, 2005) and North Atlantic Right Whale Consortium (NARWC). The Whale Center of New England sightings data are collected by observers on whale watch boats out of Gloucester, Salem, Boston, and Provincetown, as well as one dedicated research vessel out of Gloucester. The NARWC maintains sightings data collected by government and private right whale researchers. Additional mammal distribution information was also obtained from the NMFS stock assessments (Waring et al., 2004) and review of online NMFS stock assessment reports.”

Page 2-51

Replace “North Atlantic Right Whale” with “Marine Mammals” and insert the following: According to the 2005 NMFS online Stock Assessment Reports (SARs), humpback whales are also considered a strategic stock for which the average annual fishery-related mortality and serious injury exceeds the potential biological removal (PBR), while minke whales are not. More recent scientific studies (Cole et al. (2005)) indicate that Gulf of Maine humpback and minke whales are both above the PBR. Should NMFS incorporate these findings into the next SAR, the minke whale may be considered for reclassification as a strategic stock. Construction scheduling should avoid peak periods when these species are most abundant.

Page 2-54, Table 2-9. Replace: Table 2-9 with the following table

BILLING CODE 4910-81-P

Page 3-53

Insert the following footnote to Table 3-22: “More recent scientific studies (Cole et al. (2005)) indicate that the Gulf of Maine minke whale stock is above the PBR. Should NMFS incorporate these findings into the next SAR, the minke whale may be considered for reclassification as a strategic stock.”

Page 3-54, First paragraph last sentence

Delete “In general, use of the Gulf of Maine habitat areas by cetaceans increases in the spring and summer, and decreases in the fall and winter.”

Replace with “Although seasonal whale distribution plots developed from whale watching cruises seem to indicate a decline in mammal numbers during the fall, this may reflect the fewer number of whale watching cruises outside the peak summer season. Therefore, use of Gulf of Maine habitat areas by cetaceans does not show as much of a decrease in the fall as previously indicated in the FEIS.”

Page 3-66, Second paragraph, following last sentence

Insert “More recent scientific studies (Cole et al. (2005)) indicate that Gulf of Maine minke whale is above the PBR. Should NMFS incorporate these findings into the next SAR, the minke whale may be considered for reclassification as a strategic stock.”

Page 3-76, Replace table 3-26 with the following table

BILLING CODE 4910-81-C

Page 3-81, paragraph 3

Replace the two references to figure 3-13 in: “(Figures 3-13 through 3-17)”, with: “(Figures 3-14 through 3-17).”

Page 3-88, paragraph 4

Delete: “Nevertheless, only about 10% of the current day North Atlantic population of humpback whales regularly visits New England waters (USEPA, 1993). According to the species stock assessment report, the population estimate for the Gulf of Maine stock of humpback whales is 902 individuals (Waring et al., 2004), and the best estimate for the entire North Atlantic population is 10,600 (Smith et al., 1999).”

Replace with: “According to the species stock assessment report, the population estimate for the Gulf of Maine stock of humpback whales is 902 individuals (Waring et al., 2004). The appropriate management unit for consideration is the Gulf of Maine stock, as re-population from the larger North Atlantic population is not likely.”

Page 3-89, first full sentence

Delete “but a dramatic increase in the use of Stellwagen Bank by adult humpback whales has occurred during the September 1-November 5, 2000-2004 period, apparently due to the increased feeding on previously unexploited prey sources (Weinrich and Sardi, 2005).”

Replace with: “but a dramatic increase in the use of Stellwagen Basin, in the area of the proposed Project site by primarily juvenile humpback whales has occurred during the September 1-November 5, 2000-2004 period, apparently due to the increased feeding on previously unexploited planktivorous prey sources (Weinrich and Sardi, 2005).”

Page 3-94, last full paragraph, following last sentence

Insert: “In its 2005 Stock Assessment Report (SAR) NMFS has classified the humpback whale as a strategic stock. Recent scientific studies (Cole et al. (2005)) continue to indicate that the Gulf of Maine humpback whale stock is above the PBR.”

Page 3-101, last paragraph

Delete reference to Weinrich and Sardi, 2005 in sentence: “According to the sighting data, only one sei whale has been seen in the Project area, and that whale was feeding (Figure 3-28) (Kenney, 2001; Short and Schaub, 2005; Short et al., 2004; Weinrich and Sardi, 2005; McLeod et al., 2003 and 2000; Kenney, 2001; McLeod, 2002, 2001, and 1999).”

Page 3-127, 6th full paragraph

Delete second sentence “Few of these operators are devoted exclusively to whale watching, and many also provide fishing, sightseeing, and transportation services.”

Page 3-153, last paragraph

Delete: “This proposal must be formally evaluated prior to approval.”

Replace with: “The proposed shift in the TSS was presented to the International Maritime Organization (IMO) in summer 2006 for official review and decision.”

Page 3-158, end of first paragraph

Insert: (NEG, 2005).

Page 4-40, Table 4-10

Under the “Equivalent Yield” column, replace “1,165” (lobster) with “3”, and change the total from 2,330 to 1,168.

Page 4-58, third full paragraph

Delete “there has been little or no direct evidence to link a spill event to any cetacean mortality discovered either during or following a spill (Geraci and Aubin, 1990).”

Replace with: “studies conducted after the large Exxon Valdez oil spill indicated adverse impacts to local killer whale pods, with at least two immediate mortalities likely from the spill (Matkin and Saulitie, 1997). Although killer whales feed at the top of the food chain, and most of the species in the NEG project area feed on plankton, near the bottom of the food chain, there is the potential for adverse impacts on whales at the project site from oil spills. Impacts are still considered to be minor; however, due to the low probability of a spill.”

Page 4-58, third full paragraph

Delete: Despite direct contact of these marine mammals with the oil spills, no apparent adverse effects were recorded.”

Replace with: “Despite direct contact of these marine mammals with the oil spills, no apparent adverse effects were recorded at the time of the fly-over, nor was there evidence of behavior modification as a result of the spill. Follow-up flights or studies were not conducted, however, to determine if there were any longer-term effects.”

Page 4-63, first paragraph, 4th sentence

Insert: (NEG, 2005) at the end of the sentence.

Pages 4-65 and 4-76 Fuel Spill

Delete: “Cetaceans that might come into contact with a small fuel spill at the Project site would not be likely to show adverse effects, as past observations have shown no apparent adverse effects or behavioral changes caused by contact with fuel spills.”

Replace with: “Limited study (see FEIS, p. 4-58, third full paragraph), indicates that cetaceans that may come into contact with a small fuel spill at the Project site would not be likely to show adverse effects.”

Page 4-65 and 4-76 Bioaccumulation 2nd paragraph

Delete: “The only possible route of uptake of contaminants by marine mammals is through food consumption, as contaminants are not absorbed through the skin of marine mammals, and they do not drink large quantities of seawater.”

Replace with: “The most likely route of uptake of contaminants by marine mammals is through food consumption, as contaminants are not absorbed through the skin of marine mammals. While whales do not intentionally drink large quantities of seawater, a large quantity of water is processed in filter-feeding and could present another potential route for contaminate absorption.”

Page 4-77 Construction Schedule Alternatives

Delete: “Allowing construction from May through November would be most protective of the critically endangered North Atlantic right whale and fin and humpback whales, but would be less protective of sei whales, blue whales, sea turtles and some fish species.”

Replace with: “Allowing construction from May through November would be most protective of the North Atlantic right whale, but would be less protective of fin whales, humpback whales, sea turtles and some fish species.”

By order of the Maritime Administrator.
Dated: December 18, 2006.
Joel C. Richard,
Secretary, Maritime Administration.

[FR Doc. E6-21885 Filed 12-20-06; 8:45 am]

BILLING CODE 4910-81-P